DEPARTMENT OF HEALTH AND HUMAN SERVICES

National Institutes of Health

Potential Privatization of the Journal “Environmental Health Perspectives;” Request for Comment

AGENCY: National Institute of Environmental Health Sciences (NIEHS), National Institutes of Health (NIH), Department of Health and Human Services (DHHS).

ACTION: Request for Comment.

SUMMARY: For several decades, NIEHS has published Environmental Health Perspectives (EHP), a leading biomedical publication in the field of environmental health science, to provide a forum for research in environmental health science. EHP has well fulfilled this purpose, but NIEHS is now considering new channels to inform scientists, clinicians, patients, families, and the general public about environmental health research findings. NIEHS is exploring web-based and other methods to disseminate such information and anticipates development of a new system to communicate important recent findings in a timely and efficient manner.

NIEHS conducts ongoing review of all its research, training, and communications programs and has recently determined that it is now appropriate to consider phasing out Institute sponsorship of this journal. NIEHS has not reached a final decision about potential privatization of EHP nor has an implementation plan for carrying out such a decision been developed. Should such a decision be reached, it is our goal to implement it in a manner that will be least disruptive to the field and to authors, reviewers, editorial board, staff, and subscribers. The current request for comment poses a series of questions around core elements that may comprise an implementation plan for privatization of EHP. These elements include: (1) Feasibility of privatizing EHP, (2) a business plan for continuation of the journal, (3) a timeline and plan for transfer of responsibility, (4) an editorial policy plan, and (5) continued online access.

DATES: Comments must be received by October 28, 2005.

ADDRESSES: Comments should be submitted at http://www.niehs.nih.gov/external/ehp/home.htm.

FOR FURTHER INFORMATION CONTACT: EHPfeedback@niehs.nih.gov.

SUPPLEMENTARY INFORMATION:

Background Information on EHP

EHP's mission is to disseminate credible environmental and occupational health information around the world. An overarching goal is to raise global awareness of the connectivity between the environment and human health. EHP is read in nearly every country of the world. EHP has an impact factor of 3.93 and an Immediacy Index of 1.20, ranking the journal second of 132 environmental sciences journals and fifth of 90 public, environmental, and occupational health journals. As a full open-access journal, EHP provides XML-formatted content to the digital archive Pubmed Central. EHP also has partnerships with Medscape and JSTOR.org (an organization that maintains an archive of scholarly journal) to facilitate access and distribution of EHP's content.

Electronic submission and review are the norm for the 1,200 manuscripts that EHP receives annually, and the rejection rate is about 80%. EHP publishes all articles within 24 hours of acceptance on its Web site (http://ehp.niehs.nih.gov/) as EHP-in-Press articles. These articles are completely citable using CrossRef's Digital Object Identifier system. The Web site is visited by approximately 150,000 unique visitors every month. The time-to-print after publication on the website is about 3 months. The EHP Web site (http://ehp.niehs.nih.gov/) contains all current issues, all archival issues, foreign language articles, and the Student Edition plus teacher lesson plans and has a search-by-topic feature.

The journal publishes monthly issues with sections devoted to environmental news, environmental medicine, and children's environmental health. On a periodic basis, an issue may contain a mini-monograph (a group of up to six papers that address a single topic). EHP also publishes one or two special topical issues each year. In total, this full-color journal publishes approximately 3,000 pages annually.

The journal's Environews section provides balanced and objective analyses of topical issues. These articles take the form of long, investigative features (Focus articles) or brief reports (Forum articles). Other articles provide balanced analyses of legal, regulatory, public policy, and social aspects of environmental health (Spheres of Influence) and new discoveries or approaches in environmental health research, remediation, monitoring, and public health policy (Innovations). Science Selection articles summarize selected research articles appearing in the same issue, putting current EHP research findings into perspective. Other services include book reviews of important current publications, a calendar of events, position announcements, and updates on the latest news from the NIEHS grants division. EHP also publishes a highly successful monthly Student Edition and sponsors development of teacher lesson plans based on environmental news articles published within the Student Edition. These materials are available in print (currently, approximately 5,000 copies distributed) and on the EHP Web site (http://ehp.niehs.nih.gov/).

EHP's global health initiatives are ongoing on four continents (Africa, Asia, North America, and South America). These programs include providing complimentary print subscriptions to readers in developing countries, publishing a quarterly Chinese-language edition (35,000 distribution), and translating the “In This Issue” section of EHP (which encapsulates each issue's news and research content) into five languages: Chinese, French, Japanese, Russian, and Spanish. EHP cooperates with non-English language journals for translation and publication of EHP news content in EHP sections within their journals. The journal works with the University of Iowa to provide EHP journal content to their eGranary Digital Library WiderNet Project. EHP and the Journal of Environmental and Occupational Medicine have an agreement to co-publish selected research articles both in English and Chinese. EHP also hosts the website for the francophone journal, Mali Medical.

Request for Comment

The NIEHS invites public input on the issue of potential privatization of EHP. Please note that the NIEHS has not reached a final decision about potential privatization of EHP. If the Institute decides to move forward with privatization, then an implementation plan would need to be developed. This implementation plan will need to address several core topics listed below. The NIEHS seeks public input on the questions identified for each topic to facilitate reaching a decision on potential privatization and, if appropriate, development of an implementation plan. The NIEHS is interested in maintaining and enhancing the capacity of EHP to be a significant resource for researchers, clinicians, patients, family members, and the general public. We similarly seek to maintain and enhance EHP's reputation, credibility, accessibility, and value to the scientific and lay communities interested in environmental health and disease.

1. Feasibility of privatizing EHP.

Q1a. Are there likely to be private sector commercial or noncommercial entities interested in publishing EHP?

Q1b. Are there any difficulties that would be created by transferring publication of EHP from a government agency to the private sector? If so, please elaborate.

2. A business plan for continuation of the journal.

Q2. What issues should NIEHS consider in developing an implementation plan for privatizing EHP?

3. A timeline and plan for transfer of responsibility.

Q3. Are there ways to ensure an efficient transfer of functions such as editorial oversight, subscriber lists, archives, and digital content?

4. An editorial policy plan.

Q4. How should the scope of EHP's coverage, from news to peer-reviewed research, be considered in executing a potential privatization?

5. Online access.

Q5. How should EHP's current open access policy and commitments to provide content to public archives be addressed in a potential privatization?

6. Other considerations.

Q6. Overall, how would a privatization of EHP be an advantage or disadvantage to the NIEHS and to environmental health science?

Q7. What other suggestions do you have for facilitating communication activities at NIEHS?

Dated: September 8, 2005.
Samuel Wilson,
Deputy Director, National Institute of Environmental Health Sciences.

[FR Doc. 05-18596 Filed 9-16-05; 8:45 am]

BILLING CODE 4140-01-P